UNITED STATES POSTAL SERVICE BOARD OF GOVERNORS

Sunshine Act Meeting

TIMES AND DATES: 1:00 p.m., Monday, March 6, 2000; 8:30 a.m., Tuesday, March 7, 2000.

PLACE: Washington, DC, at U.S. Postal Service Headquarters, 475 L'Enfant Plaza, SW, in the Benjamin Franklin Room.

STATUS: March 6 (Closed); March 7 (Open).

MATTERS TO BE CONSIDERED:

Monday, March 6—1 p.m. (Closed)

1. eBusiness.

2. Billing and Payment Service.

3. Financial Performance.

4. Compensation Issues.

Tuesday, March 7—8:30 a.m. (Open)

1. Minutes of the Previous Meeting, February 7-8, 2000.

2. Remarks of the Postmaster General/Chief Executive Officer.

3. Capital Investments.

a. New York, New York, Midtown Station.

b. New York, New York, Ansonia Station.

Tuesday, March 7—8:30 a.m. (Open) [continued]

4. Tentative Agenda for the April 3-4, 2000, meeting in Washington, DC.

CONTACT PERSON FOR MORE INFORMATION: Thomas J. Koerber, Secretary of the Board, U.S. Postal Service, 475 L'Enfant Plaza, SW., Washington, DC 20260-1000. Telephone (202) 268-4800.

Thomas J. Koerber,
Secretary.

[FR Doc. 00-4608 Filed 2-23-00; 2:29 pm]

BILLING CODE 7710-12-M